NUCLEAR REGULATORY COMMISSION

[NRC-2025-0090]

Guidance on Referrals for Potential Criminal Enforcement

AGENCY: Nuclear Regulatory Commission.

ACTION: Notice.

SUMMARY: This notice describes the U.S. Nuclear Regulatory Commission's (NRC's) plans to address criminally liable regulatory offenses under the recent Executive Order (E.O.) on “Fighting Overcriminalization in Federal Regulations.”

DATES: June 23, 2025.

ADDRESSES: Please refer to Docket ID NRC-2025-0090 when contacting the NRC about the availability of information regarding this document. You may obtain publicly available information related to this document using any of the following methods:

• Federal Rulemaking Website: Go to https://www.regulations.gov and search for Docket ID NRC-2025-0090. Address questions about Docket IDs in Regulations.gov to Bridget Curran; telephone: 301-415-1003; email: Bridget.Curran@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Jerry Prichard, Office of Investigations, U.S. Nuclear Regulatory Commission, Washington, DC 20555-0001; telephone: 301-415-3264; email: Jerry.Prichard@nrc.gov.

SUPPLEMENTARY INFORMATION:

I. Discussion

On May 9, 2025, the President issued E.O. 14294, “Fighting Overcriminalization in Federal Regulations.” Notice of this E.O. was published in the Federal Register on May 14, 2025 (90 FR 20363). Section 7 of E.O. 14294 provides that within 45 days of the order, and in consultation with the Attorney General, each agency should publish guidance in the Federal Register describing its plan to address criminally liable regulatory offenses.

Consistent with that requirement, the NRC advises the public that by May 9, 2026, the NRC in consultation with the Attorney General, will provide to the Director of the Office of Management and Budget a report containing: (1) a list of all criminal regulatory offenses ¹ enforceable by the NRC or the Department of Justice (DOJ); and (2) for each such criminal regulatory offense, the range of potential criminal penalties for a violation and the applicable mens rea standard ² for the criminal regulatory offense.

¹ “Criminal regulatory offense” means a Federal regulation that is enforceable by a criminal penalty. E.O. 14294, sec. 3(b).

² “Mens rea” means the state of mind that by law must be proven to convict a particular defendant of a particular crime. E.O. 14294, sec. 3(c).

This notice also announces a general policy, subject to appropriate exceptions and to the extent consistent with law, that when the NRC is deciding whether to refer alleged violations of criminal regulatory offenses to DOJ, officers and employees of the NRC should consider, among other factors:

• the harm or risk of harm, pecuniary or otherwise, caused by the alleged offense;

• the potential gain to the putative defendant that could result from the offense;

• whether the putative defendant held specialized knowledge, expertise, or was licensed in an industry related to the rule or regulation at issue; and

• evidence, if any is available, of the putative defendant's general awareness of the unlawfulness of his conduct as well as his knowledge or lack thereof of the regulation at issue.

The NRC will implement this general policy in a manner consistent with the NRC's existing Memorandum of Understanding with DOJ regarding referral of matters from the NRC to DOJ (53 FR 50317). In addition, the NRC will implement the requirements of E.O. 14294 in a manner consistent with the requirements of E.O. 14300, “Ordering the Reform of the Nuclear Regulatory Commission” (90 FR 22587).

This general policy is not intended to, and does not, create any right or benefit, substantive or procedural, enforceable at law or in equity by any party against the United States, its departments, agencies, or entities, its officers, employees, or agents, or any other person.

Dated: June 17, 2025.
For the Nuclear Regulatory Commission.
Mirela Gavrilas,
Executive Director for Operations.

[FR Doc. 2025-11404 Filed 6-20-25; 8:45 am]

BILLING CODE 7590-01-P